NATIONAL AERONAUTICS AND SPACE ADMINISTRATION

[Notice (02-015)]

Notice of Prospective Patent License

AGENCY: National Aeronautics and Space Administration.

ACTION: Notice of prospective patent license.

SUMMARY: NASA hereby gives notice that Ice Management Systems, Inc., of Temecula, CA, has applied for a partially exclusive license to practice the invention described and claimed in U.S. Patent No. 5,772,912, entitled “Environmentally Friendly Deicing/Anti-Icing Fluid,” which is assigned to the United States of America as represented by the Administrator of the National Aeronautics and Space Administration. Written objections to the prospective grant of a license should be sent to NASA Ames Research Center.

DATE(S): Responses to this notice must be received by March 8, 2002.

FOR FURTHER INFORMATION CONTACT: Robert M. Padilla, Patent Counsel, NASA Ames Research Center, Mail Stop 202A-3, Moffett Field, CA 94035-1000, telephone (650) 604-5104.

Dated: January 31, 2002.
Robert M. Stephens,
Deputy General Counsel.

[FR Doc. 02-2880 Filed 2-5-02; 8:45 am]

BILLING CODE 7510-01-P